FEDERAL ELECTION COMMISSION

Sunshine Act Meeting Notice

AGENCY: Federal Election Commission.

DATE AND TIME: Thursday, June 30, 2011 at 10 a.m.

PLACE: 999 E Street, NW., Washington, DC (Ninth Floor).

STATUS: This Meeting will be Open to the Public.

ITEMS TO BE DISCUSSED: Correction and Approval of the Minutes for the Meeting of June 15, 2011.

Draft Advisory Opinion 2011-11: Mr. Stephen Colbert.

Draft Advisory Opinion 2011-12: Majority PAC and House Majority PAC.

Management and Administrative Matters.

Individuals who plan to attend and require special assistance, such as sign language interpretation or other reasonable accommodations, should contact Shawn Woodhead Werth, Commission Secretary and Clerk, at (202) 694-1040, at least 72 hours prior to the hearing date.

PERSON TO CONTACT FOR INFORMATION: Judith Ingram, Press Officer, Telephone: (202) 694-1220.

Shawn Woodhead Werth,
Secretary and Clerk of the Commission.

[FR Doc. 2011-16211 Filed 6-23-11; 4:15 pm]

BILLING CODE 6715-01-M